DEPARTMENT OF COMMERCE

International Trade Administration

Notice of Scope Rulings

AGENCY: Import Administration, International Trade Administration, Department of Commerce.

DATES: Effective Date: August 20, 2012.

SUMMARY: The Department of Commerce (“Department”) hereby publishes a list of scope rulings completed between January 1, 2012, and March 31, 2012. We intend to publish future lists after the close of the next calendar quarter.

FOR FURTHER INFORMATION CONTACT: Jennifer Moats, AD/CVD Operations, China/NME Group, Import Administration, International Trade Administration, U.S. Department of Commerce, 14th Street and Constitution Avenue NW., Washington, DC 20230; telephone: 202-482-5047.

SUPPLEMENTARY INFORMATION:

Background

The Department's regulations provide that the Secretary will publish in the Federal Register a list of scope rulings on a quarterly basis.¹ Our most recent notification of scope rulings was published on June 29, 2012.² This current notice covers all scope rulings and anticircumvention determinations completed by Import Administration between January 1, 2012, and March 31, 2012, inclusive. As described below, subsequent lists will follow after the close of each calendar quarter.

¹ See 19 CFR 351.225(o).

² See Notice of Scope Rulings, 77 FR 38767 (June 29, 2012).

Scope Rulings Completed Between January 1, 2012, and March 31, 2012

People's Republic of China

A-570-967; C-570-968: Aluminum Extrusions from the People's Republic of China

Requestor: The Rowley Company; drapery rail kits consisting of an extruded aluminum rail, decorative steel brackets and decorative steel finials are within the scope of the antidumping and countervailing duty orders; February 3, 2012.

A-570-967; C-570-968: Aluminum Extrusions from the People's Republic of China

Requestor: IDEX Health and Science LLC; Precision machine parts produced using extruded aluminum feedstock which is further fabricated into aluminum housings for vacuum pump assemblies, aluminum bodies for high pressure valves, and light guided flowcell holders are within the scope of the antidumping and countervailing duty orders; March 28, 2012.

A-570-868: Folding Metal Tables and Chairs from the People's Republic of China

Requestor: Lifetime Products, Inc.; its 48-inch round fold-in-half tables are not within the scope of the antidumping duty order; March 30, 2012.

A-570-933: Frontseating Service Valves from the People's Republic of China

Requestor: Water Operating Group; 6-position water filtration valve is not within the scope of the antidumping duty order; January 11, 2012.

A-570-920/C-570-921: Lightweight Thermal Paper from the People's Republic of China

Requestor: Paper Resources, LLC.; certain lightweight thermal paper (“LWTP”) converted into smaller LWTP rolls in the PRC, from jumbo LWTP rolls produced in certain third countries, is not within the scope of the antidumping duty and countervailing duty orders; March 23, 2012.

A-570-901: Lined Paper Products from the People's Republic of China

Requestor: Hobby Lobby; scrapbook paper is not within the scope of the antidumping duty order; January 6, 2012.

A-570-860: Steel Concrete Reinforcing Bars from the People's Republic of China

Requestor: New Orleans Shoring, LLC.; steel pins (also known as fasteners) made of concrete reinforcing bar are within the scope of the antidumping duty order; January 19, 2012.

A-570-918: Steel Wire Garment Hangers from the People's Republic of China

Requestor: Great American Hanger Company; four wooden hangers; three steel wire, swivel looped-neck hangers; and one vinyl-coated flattened steel hanger are not within the scope of the antidumping duty order; February 17, 2012.

Multiple Countries

A-560-823/C-560-824/A-570-958/C-570-959: Coated Paper Suitable for High-Quality Print Graphics Using Sheet-Fed Presses from Indonesia and the People's Republic of China

Requestor: Gold East Paper (Jiangsu) Co. Ltd. (including its subsidiaries Ningbo Zhonghua Paper Co., Ltd. and Ningbo Asia Pulp and Paper Co., Ltd.), Global Paper Solutions, Inc., Pindo Deli Pulp and Paper Mills, PT. Indah Kiat Pulp & Paper Tbk, and Paper Max, Ltd. (collectively “APP”); (1) APP's Ningbo Fold packaging paperboard, APP's Savvi Coat packaging paperboard, APP's Zenith packaging paperboard with a basis weight of 215 grams per square meter (“gsm”), APP's Sinar Vanda packaging paperboard with a basis weight of 210 gsm, and APP's blue-center playing card board which APP exports are within the scope of the antidumping duty and countervailing duty orders; (2) APP's Zenith packaging paperboard (except with a basis weight of 215 gsm), APP's Sinar Vanda packaging paperboard (except with a basis weight of 210 gsm), and APP's grey-center playing card board and black-center playing card board which APP exports are not within the scope of the antidumping duty and countervailing duty orders; preliminary ruling February 2, 2012.

A-201-837/A-570-954/C-570-955: Magnesia Carbon Bricks from Mexico and the People's Republic of China

Requestor: Fedmet Resources Corporation; its magnesia alumina carbon bricks are within the scope of the antidumping and countervailing duty orders; March 30, 2012.

Anti-Circumvention Determinations Completed Between January 1, 2012, and March 31, 2012

None.

Interested parties are invited to comment on the completeness of this list of completed scope and anticircumvention inquiries. Any comments should be submitted to the Deputy Assistant Secretary for AD/CVD Operations, Import Administration, International Trade Administration, 14th Street and Constitution Avenue NW., APO/Dockets Unit, Room 1870, Washington, DC 20230.

This notice is published in accordance with 19 CFR 351.225(o).

Dated: August 9. 2012.
Christian Marsh,
Deputy Assistant Secretary for Antidumping and Countervailing Duty Operations.

[FR Doc. 2012-20066 Filed 8-17-12; 8:45 am]

BILLING CODE 3510-DS-P